DEPARTMENT OF COMMERCE

Bureau of the Census

[Docket Number 000207031-0031-01]

RIN 0607-XX55

Manufacturers' Shipments, Inventories and Orders (M3) Survey Supplement: Unfilled Orders Benchmark Survey

AGENCY: Bureau of the Census, Commerce.

ACTION: Notice of consideration.

SUMMARY: The Bureau of the Census (Census Bureau) is planning to initiate a supplement, the Unfilled Orders Benchmark survey, to the monthly Manufacturers' Shipments, Inventories and Orders survey for 1999. The data received from this supplement will provide the information necessary to benchmark the monthly estimates of unfilled orders in manufacturing. The unfilled orders series is an important indicator of economic activity. These data have significant application to the needs of the public and industry. They are not available from non-governmental or other governmental sources.

DATE: Written comments must be submitted on or before March 17, 2000.

ADDRESS: Direct all written comments to the Director, U.S. Census Bureau, Room 2049, Federal Building 3, Washington, DC 20233.

FOR FURTHER INFORMATION CONTACT: Lee Wentela, Chief, Manufacturers' Shipments, Inventories and Orders Branch, Manufacturing and Construction Division, on (301) 457-4832.

SUPPLEMENTARY INFORMATION: The Census Bureau is authorized to conduct surveys necessary to furnish current data on subjects covered by the major censuses authorized by Title 13, United States Code, Sections 182, 224, and 225. The Unfilled Orders Benchmark survey will provide continuing and timely national statistical data for the period between the economic censuses. The next Economic Census will occur in the year 2002. Data collected in this survey will be within the general scope, type, and character of those inquiries covered in the Economic Census.

This Unfilled Orders Benchmark survey is a supplement to the Manufacturers' Shipments, Inventories and Orders survey and will request end-of-year unfilled orders and annual sales data for 1999. The survey will include a sample of about 10,000 companies classified in industries for which unfilled orders are normally maintained longer than one month. The survey will be mailed in spring 2000 and require responses within 45 days after receipt.

The resulting unfilled orders estimates will be used to revise the levels currently being published for the monthly survey and will improve the accuracy of the data. The current estimates are based on a small sample and are subject to error.

Beginning with the survey year 2001, we will publish the M3 Survey data using the new North American Industry Classification System (NAICS). The data collected in this survey will help establish new levels of unfilled orders for NAICS industries. The structure of NAICS was developed in a series of meetings between the United States, Canada, and Mexico in the early to middle 1990s. NAICS recognizes the rapid changes in both the United States and world economies by providing a means to classify new and emerging industries. The system was constructed on a production-oriented, or supply-based, conceptual framework.

Notwithstanding any other provision of law, no person is required to respond to, nor shall a person be subject to a penalty for failure to comply with, a collection of information subject to the requirements of the Paperwork Reduction Act (PRA), unless that collection of information displays a current valid Office of Management and Budget (OMB) control number. In accordance with the PRA, 44 U.S.C., Chapter 35, we will submit the survey to OMB for approval. We will furnish report forms to organizations included in the survey, and additional copies are available on written request to the Director, U.S. Census Bureau (see ADDRESS section).

Dated: February 10, 2000.
Kenneth Prewitt,
Director, Bureau of the Census.

[FR Doc. 00-3677 Filed 2-15-00; 8:45 am]

BILLING CODE 3510-07-P